DEPARTMENT OF HOMELAND SECURITY

Federal Emergency Management Agency

[Docket ID FEMA-2021-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Yavapai (FEMA Docket No.: B-2052). | Unincorporated areas of Yavapai County (20-09-0368P). | Mr. Craig L. Brown, Chairman, Yavapai County Flood Control, District Board of Directors, 1015 Fair Street, Prescott, AZ 86305. | Yavapai County Development Services Department, 1120 Commerce Drive, Prescott, AZ 86305. | Nov. 30, 2020 | 040093
Arkansas: Washington (FEMA Docket No.: B-2054). | City of Fayetteville (19-06-3968P). | The Honorable Lioneld Jordan, Mayor, City of Fayetteville, 113 West Mountain Street, Fayetteville, AR 72701. | City Hall, 113 West Mountain Street, Fayetteville, AR 72701. | Dec. 7, 2020 | 050216
Colorado:
Adams (FEMA Docket No.: B-2052). | City of Westminster (19-08-0665P). | The Honorable Herb Atchison, Mayor, City of Westminster, 4880 West 92nd Avenue, Westminster, CO 80031. | City Hall, 4880 West 92nd Avenue, Westminster, CO 80031. | Nov. 27, 2020 | 080008
Adams (FEMA Docket No.: B-2052). | Unincorporated areas of Adams County (19-08-0665P). | The Honorable Emma Pinter, Chair, Adams County Board of Commissioners, 4430 South Adams County Parkway, 5th Floor, Suite C5000A, Brighton, CO 80601. | Adams County Development Services Department, Engineering Division, 4430 South Adams County Parkway, 1st Floor, Suite W2000, Brighton, CO 80601. | Nov. 27, 2020 | 080001
Jefferson (FEMA Docket No.: B-2059). | City of Westminster (20-08-0053P). | The Honorable Herb Atchison, Mayor, City of Westminster, 4800 West 92nd Avenue, Westminster, CO 80031. | City Hall, 4800 West 92nd Avenue, Westminster, CO 80031. | Dec. 4, 2020 | 080008
Florida:
Broward (FEMA Docket No.: B-2054). | City of Coral Springs (20-04-1557P). | Mr. Frank Babinec, Manager, City of Coral Springs, 9500 West Sample Road, Coral Springs, FL 33065. | City Hall, 9500 West Sample Road, Coral Springs, FL 33065. | Nov. 30, 2020 | 120033
Monroe (FEMA Docket No.: B-2054). | Unincorporated areas of Monroe County (20-04-1572P). | The Honorable Heather Carruthers, Mayor, Monroe County Board of Commissioners, 500 Whitehead Street, Suite 102, Key West, FL 33040. | Monroe County Building Department, 2798 Overseas Highway, Suite 300, Marathon, FL 33050. | Nov. 30, 2020 | 125129
Monroe (FEMA Docket No.: B-2054). | Unincorporated areas of Monroe County (20-04-3363P). | The Honorable Heather Carruthers, Mayor, Monroe County Board of Commissioners, 500 Whitehead Street, Suite 102, Key West, FL 33040. | Monroe County Building Department, 2798 Overseas Highway, Suite 300, Marathon, FL 33050. | Nov. 30, 2020 | 125129
Monroe (FEMA Docket No.: B-2054). | Unincorporated areas of Monroe County (20-04-3364P). | The Honorable Heather Carruthers, Mayor, Monroe County Board of Commissioners, 500 Whitehead Street, Suite 102, Key West, FL 33040. | Monroe County Building Department, 2798 Overseas Highway, Suite 300, Marathon, FL 33050. | Dec. 7, 2020 | 125129
Pasco (FEMA Docket No.: B-2052). | Unincorporated areas of Pasco County (20-04-0554P). | The Honorable Mike Moore, Chairman, Pasco County Board of Commissioners, 8731 Citizens Drive, New Port Richey, FL 34654. | Pasco County Administration Building, 8731 Citizens Drive, New Port Richey, FL 34654. | Nov. 27, 2020 | 120230
Sarasota (FEMA Docket No.: B-2054). | Unincorporated areas of Sarasota County (20-04-3149P). | The Honorable Michael A. Moran, Chairman, Sarasota County Board of Commissioners, 1660 Ringling Boulevard, Sarasota, F4034236. | Sarasota County Planning and Development Services Department, 1001 Sarasota Center Boulevard, Sarasota, FL34240. | Dec. 3, 2020 | 125144
Massachusetts: Nantucket (FEMA Docket No.: B-2052). | Town of Nantucket (20-01-0466P). | The Honorable Dawn E. Hill Holdgate, Chair, Town of Nantucket Board of Selectmen, 16 Broad Street, Nantucket, MA 02554. | Planning and Land Use Services Department, 2 Fairgrounds Road, Nantucket, MA 02554. | Nov. 27, 2020 | 250230
Mississippi: Panola (FEMA Docket No.: B-2054). | Unincorporated areas of Panola County (20-04-1139P). | The Honorable Cole Flint, President, Panola County Board of Supervisors, 151 Public Square, Batesville, MS 38606. | Panola County Land Development Commission, 245 Eureka Street, Batesville, MS 38606. | Dec. 3, 2020 | 280125
North Carolina: Columbus (FEMA Docket No.: B-2054). | Town of Sandyfield (20-04-3325P). | The Honorable Garry Keaton, Mayor, Town of Sandyfield, 1795 Woodyard Road, Riegelwood, NC 28546. | Town Hall, 1795 Woodyard Road, Riegelwood, NC 28546. | Dec. 7, 2020 | 370644
Oklahoma: Tulsa (FEMA Docket No.: B-2052). | City of Tulsa (20-06-0535P). | The Honorable G.T. Bynum, Mayor, City of Tulsa, 175 East 2nd Street, Tulsa, OK 74103. | Engineering Services Department, 2317 South Jackson Avenue, Suite S-310, Tulsa, OK 74107. | Nov. 30, 2020 | 405381
Texas:
Dallas (FEMA Docket No.: B-2054). | City of Dallas (20-06-1597P). | The Honorable Eric Johnson, Mayor, City of Dallas, 1500 Marilla Street, Suite 5EN, Dallas, TX 75201. | Water Utilities Department, 312 East Jefferson Boulevard, Room 307, Dallas, TX 75203. | Dec. 7, 2020 | 480171
Hood (FEMA Docket No.: B-2054). | Unincorporated areas of Hood County (20-06-2645P). | The Honorable Ron, Massingill, Hood County Judge, 100 East Pearl Street, Granbury, TX 76048. | Hood County Development and Compliance Department, 1402 West Pearl Street, Suite 2, Granbury, TX 76048. | Dec. 3, 2020 | 480356
Utah: Cache (FEMA Docket No.: B-2054). | City of Hyrum (20-08-0206P). | The Honorable Stephanie Miller, Mayor, City of Hyrum, 60 West Main Street, Hyrum, UT 84319. | City Hall, 60 West Main Street, Hyrum, UT 84319. | Dec. 2, 2020 | 490017
Virginia:
Loudoun (FEMA Docket No.: B-2059). | Town of Purcellville (20-03-0501P). | The Honorable Kwasi Fraser, Mayor, Town of Purcellville, 221 South Nursery Avenue, Purcellville, VA 20132. | Planning and Zoning Department, 221 South Nursery Avenue, Purcellville, VA 20132. | Dec. 7, 2020 | 510231
Loudoun (FEMA Docket No.: B-2059). | Unincorporated areas of Loudoun County (20-03-0501P). | Mr. Tim Hemstreet, Loudon County Administrator, P.O. Box 7000, Leesburg, VA 20177. | Loudoun County Office of Mapping and Geographic Information, 1 Harrison Street, Southeast, Leesburg, VA 20175. | Dec. 7, 2020 | 510090
Prince William (FEMA Docket No.: B-2052). | Unincorporated areas of Prince William County (20-03-0070P). | Mr. Christopher E. Martino, Prince William County Executive, 1 County Complex Court, Prince William, VA 22192. | Prince William County Department of Public Works, 5 County Complex Court, Prince William, VA 22192. | Dec. 3, 2020 | 510119
Wyoming: Teton (FEMA Docket No.: B-2054). | Unincorporated areas of Teton County (19-08-1023P). | The Honorable Natalia Macker, Chair, Teton County Board of Commissioners, P.O. Box 3594, Jackson, WY 83001. | Teton County Public Works Department, 320 South King Street, Jackson, WY 83001. | Dec. 3, 2020 | 560094
Texas:
Gillespie (FEMA Docket No.: B-2054). | City of Fredericksburg (19-06-2756P). | The Honorable Gary Neffendorf, Mayor, City of Fredericksburg, 126 West Main Street, Fredericksburg, TX 78624. | City Hall, 126 West Main Street, Fredericksburg, TX 78624. | Nov. 19, 2020 | 480252
Johnson (FEMA Docket No.: B-2052). | City of Burleson (19-06-3252P). | The Honorable Ken Shetter, Mayor, City of Burleson, 141 West Renfro Street, Burleson, TX 76028. | City Hall, 141 West Renfro Street, Burleson, TX 76028. | Nov. 23, 2020 | 485459
Montgomery (FEMA Docket No.: B-2052). | City of Conroe (19-06-2853P). | The Honorable Toby Powell, Mayor, City of Conroe, P.O. Box 3066, Conroe, TX 77305. | City Hall, 300 West Davis Street, Conroe, TX 77301. | Nov. 12, 2020 | 480484
Tarrant (FEMA Docket No.: B-2049). | City of Colleyville (20-06-1166P). | The Honorable Richard Newton, Mayor, City of Colleyville, 100 Main Street, Colleyville, TX 76034. | City Hall, 100 Main Street, Colleyville, TX 76034. | Nov. 12, 2020 | 480590
Tarrant (FEMA Docket No.: B-2052). | City of Mansfield (20-06-0705P). | Mr. Clayton Chandler, Manager, City of Mansfield, 1200 East Broad Street, Mansfield, TX 76063. | Geographic Information Systems (GIS) Department, 1200 East Broad Street, Mansfield, TX 76063. | Nov. 9, 2020 | 480606
Utah: Grand (FEMA Docket No.: B-2052). | Unincorporated areas of Grand County (20-08-0298P). | The Honorable Mary McGann, Chair, Grand County Council, 125 East Center Street, Moab, UT 84532. | Grand County Courthouse, 125 East Center Street, Moab, UT 84532. | Nov. 13, 2020 | 490232
Virginia: Independent City (FEMA Docket No.: B-2052). | City of Fairfax (20-03-0228P). | Mr. Robert A. Stalzer, Manager, City of Fairfax, 10455 Armstrong Street, Room 316, Fairfax, VA 22030. | Public Works Department, 10455 Armstrong Street, Fairfax, VA 22030. | Nov. 16, 2020 | 515524

[FR Doc. 2021-00396 Filed 1-11-21; 8:45 am]

BILLING CODE 9110-12-P